DEPARTMENT OF TRANSPORTATION

Federal Transit Administration

Notice of Meeting of the Transit Advisory Committee for Safety (TRACS)

AGENCY: Federal Transit Administration (FTA), DOT.

ACTION: Notice of meeting.

SUMMARY: This notice announces a public meeting via teleconference of the Transit Advisory Committee for Safety (TRACS). TRACS is a Federal Advisory Committee established by the U.S. Secretary of Transportation (the Secretary) in accordance with the Federal Advisory Committee Act to provide information, advice, and recommendations to the Secretary and the Federal Transit Administrator on matters relating to the safety of public transportation systems.

DATES: The TRACS meeting will be held on December 1, 2015, from 1 p.m.-4 p.m. (EST). Contact Bridget Zamperini (see contact information below) on or before November 27, 2015, if you wish to participate.

ADDRESSES: The meeting will be conducted via computer based meeting software and/or teleconference and is open for public participation. Instructions for accessing the meeting will be provided to all participants who pre-register with the Federal Transit Administration (FTA) before the start of the meeting.

FOR FURTHER INFORMATION CONTACT: Bridget Zamperini, Federal Transit Administration, Office of Transit Safety and Oversight, at (202) 366-0306 or TRACS@dot.gov.

SUPPLEMENTARY INFORMATION: This notice is provided in accordance with the Federal Advisory Committee Act (Pub. L. 92-463, 5 U.S.C. App. 2). As noted above, TRACS is a Federal Advisory Committee established to provide information, advice, and recommendations to the Secretary and the Administrator of the Federal Transit Administration (FTA) on matters relating to the safety of public transportation systems. TRACS is currently composed of 28 members representing a broad base of expertise necessary to discharge its responsibilities. The tentative agenda for this meeting of TRACS is set forth below:

Agenda

(1) Welcome Remarks/Introductions

(2) Previously Issued Recommendations

(3) Organizational and Activity Update from the FTA Office of Transit Safety and Oversight (TSO)

(4) Public Comments

(5) Wrap Up

As previously noted, this meeting will be accessible to the public. Persons wishing to participate must contact Bridget Zamperini, Federal Transit Administration, Office of Transit Safety and Oversight, at (202) 366-0306 or TRACS@dot.gov on or before November 27, 2015, to receive the information necessary to access the virtual meeting. Members of the public who wish to make an oral statement during the meeting or require special accommodations are also directed to make a request to Bridget Zamperini at (202) 366-0306 or TRACS@dot.gov on or before November 27, 2015. Provisions will be made to include oral statements on the agenda, if needed. Members of the public may submit written comments or suggestions concerning the activities of TRACS at any time before or after the meeting at TRACS@dot.gov, or to the attention of Bridget Zamperini at the U.S. Department of Transportation, Federal Transit Administration, Office of Transit Safety and Oversight, Room E45-310, 1200 New Jersey Avenue SE., Washington, DC 20590. Information from the meeting will be posted on FTA's public Web site at http://www.fta.dot.gov/about/13099.html. Written comments submitted to TRACS will also be posted at the above Web address.

Therese W. McMillan,
Acting Administrator.

[FR Doc. 2015-29178 Filed 11-16-15; 8:45 am]

BILLING CODE P